FEDERAL COMMUNICATIONS COMMISSION

[DA 03-785]

Media Bureau Implements New Equal Employment Opportunity Forms, Mandatory Electronic Filing of FCC Form 396-A

AGENCY: Federal Communications Commission.

ACTION: Notice.

SUMMARY: This document announces the mandatory electronic filing of the FCC broadcast Equal Employment Opportunity Form 396-A. The Commission suspended the previous version of this form and adopted the current version with a new EEO rule. Paper version of the form will not be accepted after deadline date unless accompanied by request for waiver.

FOR FURTHER INFORMATION CONTACT: Roy Boyce, Policy Division, Media Bureau, (202) 418-1450.

SUPPLEMENTARY INFORMATION: This is a summary of the Media Bureau's Public Notice (“PN”), DA 03-785, adopted and released March 18, 2003. The complete text of this PN is available for inspection and copying during normal business hours in the FCC Reference Center, Room CY-A257, 445 12th Street, SW., Washington, DC and may also be purchased from the Commission's copy contractor, Qualex International, Portals II, 445 12th Street, SW., Room CY-B-402, Washington, DC 20554, telephone (202) 863-2893, facsimile (202) 863-2898, or via e-mail qualexint@aol.com.

Synopsis of Public Notice

1. By this PN the Media Bureau announces mandatory electronic filing for FCC Form 396-A, Broadcast Equal Employment Opportunity Model Program Report (February, 2003 Edition).

2. Mandatory electronic filing commenced on March 10, 2003. Paper versions of these forms will not be accepted for filing after March 10, 2003, unless accompanied by an appropriate request for waiver of the electronic filing requirement. Users can access the electronic filing system via the Internet from the Media Bureau's Web site at: http://www.fcc.gov/mb.

3. Pursuant to the 1998 Biennial Regulatory Review—Streamlining of Mass Media Applications, Rules and Processes (63 FR 70040, December 18, 1998), Report and Order (“R&O”), mandatory electronic filing was to commence six-months after a given form was made available for electronic use. The then Mass Media Bureau made FCC Form 396-A available for electronic use more than six months ago. The form was made available in connection with a broadcast Equal Employment Opportunity (“EEO”) rule adopted in February 2000 that was subsequently vacated as a result of a Court order. As a result of the Court's action, the Commission suspended the prior version of Form 396-A in January, 2001. The current version was adopted by the 2nd R&O (68 FR 00670, January 7, 2003), and Third Notice of Proposed Rule Making (3rd NPRM), (67 FR 77374, December 17, 2002), in MM Docket No. 98-204, which adopted a new broadcast EEO rule. It is substantially similar to the version adopted in February 2000 and is used in conjunction with other forms (e.g., FCC Forms 301, 314, 315, and 340) that are already subject to mandatory electronic filing.

4. In the Streamlining R&O, which announced the Commission's electronic filing requirement, the Commission recognized the need for limited waivers of this requirement in light of the “burden that electronic filing could place upon some licensees who are seeking to serve the public interest, with limited resources, and succeed in a highly competitive local environment.” Such waivers will not be routinely granted and the applicant must plead with particularity the facts and circumstances warranting relief.

5. Instructions for use of the electronic filing system are available in the CDBS User's Guide which can be accessed from the electronic filing Web site. Special attention should be given to the details of the applicant account registration function, form filing function, and the fee form handling procedures, if a fee is required. Failure to follow the procedures in the User's Guide may result in an application being dismissed, returned, or not considered as officially filed.

6. Internet access to the CDBS public access system at the Commission's Web site requires a user to have a browser such as Netscape version 3.04 or Internet Explorer version 3.51, or later.

7. For technical assistance using the system or to report problems, please contact the CDBS Help Desk at (202) 418-2MMB. To request additional information concerning specific broadcast applications, please call (202) 418-2700 (radio forms) or (202) 418-1600 (television forms).

8. The (2nd R&O) also adopted three other EEO forms—FCC Forms 396 (Broadcast EEO Program Report), 396-C (Multi-Channel Video Program Distributor EEO Program Annual Report), and 397 (Broadcast Mid-Term Report). These forms have been approved by the Office of Management and Budget (68 FR 10015, March 3, 2003) and were effective March 10, 2003. They are, however, not yet available for electronic filing because there is no immediate need to file them. An announcement will be made when they are available.

FCC Notice Required by the Paperwork Reduction Act

9. On February 14, 2003, the Commission received approval for the information collection contained herein pursuant to the “emergency processing” provisions of the Paperwork Reduction Act of 1995 (5 CFR 1320.13). The OMB Control Number for the FCC Form 396-A is 3060-0120. The annual reporting burdens for this collection of information, including the time for reviewing instructions, searching existing data sources, gathering and maintaining the required data and completing and reviewing the collection of information, are estimated to be: 5,000 respondents, 1 hour per response per annum, for a total annual burden of 5000 hours; there are no annual costs. If you have any comments on this burden estimate, or how we can improve the collection and reduce the burden it causes you, please write to Les Smith, Federal Communications Commission, Room 1-A804, 445 12th Street, SW., Washington, DC 20554. Please include the OMB Control Number: 3060-0120, in your correspondence. We will also accept your comments regarding the Paperwork Reduction Act aspects of this collection via the Internet if you send them to lesmith@fcc.gov or call (202) 418-0217.

10. Under 5 CFR 1320, an agency may not conduct or sponsor a collection of information unless it displays a current valid control number. No person shall be subject to any penalty for failing to comply with a collection of information subject to the Paperwork Reduction Act (PRA) that does not display a valid control number. The OMB Control Number for this collection is 3060-0120. The forgoing Notice is required by the Paperwork Reduction Act of 1995, Public Law 104-13, October 1, 1995, 44 U.S.C. 3507.

Federal Communications Commission.
Marlene H. Dortch,
Secretary.

[FR Doc. 03-9826 Filed 4-21-03; 8:45 am]

BILLING CODE 6712-01-P